DEPARTMENT OF DEFENSE

Department of the Army

Intent To Grant an Exclusive License of a U.S. Government-Owned Patent

AGENCY: Department of the Army, DOD.

ACTION: Notice; correction.

SUMMARY: The notice of an intent to grant an exclusive license for U.S. Patent application 11/229,425, filed September 16, 2005 entitled “Artillery Rocket Trajectory Correction Kit” was originally published in the Federal Register on July 20, 2007 (72 FR 39801). The following information was published in error: “In accordance with 35 U.S.C. 209 and 37 CFR 404.7(a)(1)(i), announcement is made of the intent to grant an exclusive, royalty-bearing, revocable license within the geographic area of the United States of America and its territories and possessions to U.S. Patent application * * *.” The following information is the correction; In accordance with 35 U.S.C. 209 and 37 CFR 404.7(b)(12)(i), announcement is made of the intent to grant an exclusive, royalty-bearing, revocable license for all the geographic area excluding the United States of America and its territories and possessions for any patents or patent applications claiming priority to U.S. Patent application.

FOR FURTHER INFORMATION CONTACT: Dr. Russ Alexander, Office of Research & Technology Applications, (256) 876-8743.

SUPPLEMENTARY INFORMATION: None.

Brenda S. Bowen,
Army Federal Register Liaison Officer.

[FR Doc. 07-3673 Filed 7-26-07; 8:45 am]

BILLING CODE 3710-08-M